DEPARTMENT OF TRANSPORTATION

Federal Transit Administration

Environmental Impact Statement or Possible Environmental Assessment on the Riverview Corridor Transit Project Located in the Cities of St. Paul and Bloomington, MN

AGENCY: Federal Transit Administration (FTA), DOT.

ACTION: Notice of intent to prepare an Environmental Impact Statement or possible Environmental Assessment.

SUMMARY: The Federal Transit Administration (FTA) is issuing this notice to advise interested agencies and the public that, in accordance with the National Environmental Policy Act, an Environmental Impact Statement (EIS) is being prepared for the Riverview Corridor Transit Project in the cities of St. Paul and Bloomington, Minnesota. Based on the definition of the proposed Bus Rapid Transit (BRT) Alternative after the scoping period, an Environmental Assessment document could be determined to be the appropriate level of environmental documentation for the proposed action. This decision will be made at the end of the scoping period, and will depend upon the nature of the proposed action and its expected impacts.

DATES: One Interagency Scoping Meeting and two Public Scoping Meetings will be held on the following dates and times at the locations indicated.

Interagency Scoping Meeting

July 31, 2001, 2 pm to 4 pm, Metro State University, 700 East 7th Street, St. Paul, Minnesota 55106.

Public Scoping Meetings

July 31, 2001, 6 pm to 8 pm, Metro State University, 700 East 7th Street, St. Paul, Minnesota 55106.

August 1, 2001, 6 pm to 8 pm, West 7th Community Center, 265 Oneida Street, St. Paul, Minnesota 55102.

ADDRESSES: Written comments on the scope of analysis and impacts to be considered should be sent by August 13, 2001 to: Molly Grove, Metro Transit, 560 Sixth Avenue North, Minneapolis, MN 55411-4398; Telephone: (612) 349-7533, Fax: (612) 349-7675; Email: molly.grove@metc.state.mn.us; TTY: (612) 349-7439 (attention Molly Grove).

FOR FURTHER INFORMATION CONTACT: Mr. Joel P. Ettinger, Regional Administrator, Federal Transit Administration (FTA), Region V, 200 West Adams Street, Suite 2410, Chicago, IL 60606; Telephone: (312) 353-2789.

SUPPLEMENTARY INFORMATION: The FTA (the federal lead agency) in cooperation with the Metropolitan Council (the local lead agency) anticipates the preparation of an Environmental Impact Statement (EIS) for the Riverview Corridor Transit Project. As in the Summary, the determination may be made that an Environmental Assessment is the appropriate level of environmental documentation, based on the proposed action definition. This decision will be made at the end of the scoping process and it will depend upon the nature of the proposed action and its expected impacts.

I. Scoping

The FTA and Metropolitan Council invite interested individuals, organizations and federal, state and local agencies to participate in defining the alternatives to be evaluated in the environmental document; in identifying social, economic or environmental impacts to be evaluated; and suggesting alternatives that are less costly or have fewer environmental impacts while achieving similar transportation objectives. An information packet, referred to as the Scoping Booklet, will be circulated to all federal, state or local agencies having jurisdiction in the project, and all interested parties currently on the Riverview Corridor mailing list. Other interested parties may request this Scoping Booklet by contacting Molly Grove at (612) 349-7533.

Two public scoping meetings will be held in the study area. The first will be held from 6 pm to 8 pm on July 31, 2001 at the Metro State University. The second meeting will be held from 6:00 pm to 8:00 pm on August 1, 2001 at the West 7th Community Center. One Interagency Scoping Meeting will be held from 2 pm to 4 pm on July 31, 2001 at the Metro State University. People with special needs should call Molly Grove at (612) 349-7533. The buildings are accessible to persons with disabilities.

Scoping comments may be made at the public scoping meetings or in writing by August 13, 2001. Comments or questions should be directed to Molly Grove at the address provided above.

II. Description of Study Area

The study area to be analyzed is the Riverview Corridor, which extends 12.3 miles from the Mall of America in Bloomington, through downtown Saint Paul and Saint Paul's Lower East Side. The corridor includes one key roadway (Interstate 35E) two major arterial roadways, West 7th Street and Shepard Road, which traverses the corridor with a railroad alignment and parallels the Mississippi River floodplain.

The Riverview Corridor study area can be described as long and narrow, aligned along a southwesterly to northeasterly axis. The study area limits are generally the Mississippi River on the southeast, I-35E and 7th Street on the northwest, 24th Avenue South and the Mall of America on the southwest, and Arcade Street on the northeast.

Several transportation issues have been identified for the Riverview Corridor. These include mobility limitations, development activity, projected residential population growth, transit captive residents, projected employment growth, efficient connections from the Minneapolis-Saint Paul International Airport to downtown Saint Paul, traffic congestion, and pedestrian vehicular safety.

III. Alternatives

In March 1999, the FTA, in cooperation with the Ramsey County Regional Railroad Authority (RCRRA) issued the Notice of Intent to prepare a Major Investment Study and possible Environmental Impact Statement for the Riverview Corridor in St. Paul, Minnesota. The Major Investment Study (MIS) defined and evaluated two transit technologies for the Riverview Corridor: light rail transit (LRT) and bus rapid transit (BRT). Each technology was reviewed using criteria developed to measure key characteristics important in meeting project goals. These evaluation measures included mobility, economic revitalization and land use, environmental impacts, and cost-effectiveness. Based on the alternative evaluation conducted during the MIS process, the RCRRA chose BRT along 7th Street and a portion of the Canadian Pacific Railroad (CPR) right-of-way as the locally preferred alternative. This action was endorsed by the City of St. Paul and the Metropolitan Council.

The alternatives proposed for consideration in the Riverview Corridor Transit Project environmental document include:

1. No-Build Alternative—The No-Build Alternative includes current roadway and transit networks, plus committed and funded transportation projects.

2. Transportation Systems Management (TSM) Alternative—The TSM comprises lower cost capital improvements to the existing transportation system to improve transit operations, travel time reliability, and traffic flow. The TSM alternative includes all programmed improvements defined in the No-Build alternative.

3. Bus Rapid Transit (BRT) Alternative—A busway would extend from the Mall of America in Bloomington to the Lower East side of Saint Paul. BRT alignment options include West 7th Street, the Canadian Pacific Rail Line, I-35E and Shepard Road. Depending on BRT alignment location and design, modifications to the I-35E/Shepard Road and TH 5/Shepard Road interchanges will be evaluated as part of this project.

IV. Probable Effects/Potential Impacts for Analysis

The FTA and Metropolitan Council will evaluate each alternative for significant environmental, social and economic impacts. Anticipated primary environmental issues include: Land use, historic and archaeological resources, traffic and parking, noise and vibration, parklands, neighborhoods and environmental justice, floodplain encroachment, coordination with ongoing related transportation and economic development projects, and construction impacts. Other issues the EIS or EA will address include natural areas, rare and endangered species, air and water quality, groundwater, energy, potentially contaminated sites, displacements and relocations, ecosystems, water resources, and energy impacts. The impacts will be evaluated both for the construction period and the long-term period of operation of each alternative. In addition, cumulative effects of the proposed project and any irreversible or irretrievable commitment of resources will be identified. Measures to avoid or mitigate any significant adverse impacts will be developed.

V. FTA Procedures

In accordance with the regulations and guidance established by the Council of Environmental Quality (CEQ), as well as the Code of Federal Regulations, Title 23, Part 771 (23 CFR Part 771) of the FHWA/FTA environmental regulations and policies, the EIS or possible EA, based on the definition of alternative(s) at the end of the scoping process, will include an evaluation of the social, economic and environmental impacts of each of the alternatives selected for evaluation. The environmental document will also comply with the requirements of the Clean Air Act Amendments of 1990 (CAAA), with the Executive Order 12898 regarding Environmental Justice and will meet the requirements of the US Environmental Protection Agency's transportation conformity regulations (40 CFR 93 and 23 CFR 450.322(b)(8)). After its publication, the Draft Environmental Impact Statement (DEIS) or EA document will be available for public and agency review and comment. Public hearings will be held on the DEIS or EA document.

If the proposed build alternative(s) require the preparation of an EIS, the Final Environmental Impact Statement (FEIS) will consider comments received during the DEIS public review and will identify the preferred alternative. Opportunity for additional public comment will be provided throughout all phases of project development.

Issued on: July 9, 2001.
Joel P. Ettinger,
Region V Administrator, Federal Transit Administration, Chicago, Illinois.

[FR Doc. 01-17483 Filed 7-11-01; 8:45 am]

BILLING CODE 4910-57-U